DEPARTMENT OF ENERGY

Federal Energy Regulatory Commission

Combined Notice of Filings #1

Take notice that the Commission received the following electric corporate filings:

Docket Numbers: EC24-118-000.

Applicants: Shady Hills Power Company, L.L.C.

Description: Response to 10/03/2024, Shady Hills Power Company, L.L.C. request for additional information for Application for Authorization Under Section 203 of the Federal Power Act.

Filed Date: 10/30/24.

Accession Number: 20241030-5283.

Comment Date: 5 p.m. ET 11/20/24.

Take notice that the Commission received the following exempt wholesale generator filings:

Docket Numbers: EG25-24-000.

Applicants: 50LW 8me LLC.

Description: 50LW 8me LLC submits Notice of Self-Certification of Exempt Wholesale Generator Status.

Filed Date: 11/4/24.

Accession Number: 20241104-5204.

Comment Date: 5 p.m. ET 11/25/24.

Docket Numbers: EG25-25-000.

Applicants: Bluebird Solar LLC.

Description: Notice of Self-Certification of Exempt Wholesale Generator Status of Bluebird Solar LLC.

Filed Date: 11/5/24.

Accession Number: 20241105-5196.

Comment Date: 5 p.m. ET 11/26/24.

Docket Numbers: EG25-26-000.

Applicants: Seven Flags BESS, LLC.

Description: Notice of Self-Certification of Exempt Wholesale Generator Self-Certification of Seven Flags BESS, LLC.

Filed Date: 11/5/24.

Accession Number: 20241105-5199.

Comment Date: 5 p.m. ET 11/26/24.

Docket Numbers: EG25-27-000.

Applicants: Tierra Seca BESS, LLC.

Description: Tierra Seca BESS, LLC submits Notice of Self-Certification of Exempt Wholesale Generator Status.

Filed Date: 11/5/24.

Accession Number: 20241105-5201.

Comment Date: 5 p.m. ET 11/26/24.

Take notice that the Commission received the following electric rate filings:

Docket Numbers: ER13-1992-032; ER23-1120-001; ER24-136-004; ER10-3125-019; ER10-2211-010; ER10-3319-021; ER10-3100-018; ER10-3109-016; ER13-1991-032.

Applicants: Desert Sunlight 250, LLC, Washington County Power, LLC, MPC Generating, LLC, Astoria Energy II LLC, Vandolah Power Company, L.L.C., AL Sandersville, LLC, Sunlight Storage II, LLC, Nevada Cogeneration Associates #1, Desert Sunlight 300, LLC.

Description: Notice of Change in Status of AL Sandersville, LLC, et al.

Filed Date: 10/31/24.

Accession Number: 20241031-5408.

Comment Date: 5 p.m. ET 11/21/24.

Docket Numbers: ER20-1608-003; ER20-1610-005; ER22-1065-005; ER22-1085-002; ER22-2622-004; ER23-842-003; ER23-843-003; ER23-1497-003; ER23-1595-004; ER23-2066-002; ER24-1336-001; ER11-4475-016; ER10-2535-014; ER10-2534-010; ER10-2532-020; ER10-2531-013; ER10-2530-007; ER10-2529-009; ER10-2528-007; ER10-2400-018; ER10-1821-023; ER10-2527-012.

Applicants: Allegheny Ridge Wind Farm, LLC, Goshen Phase II LLC, Blue Canyon Windpower LLC, Aragonne Wind LLC, Buena Vista Energy, LLC, Caprock Wind LLC, Cedar Creek Wind Energy, LLC, Crescent Ridge LLC, Kumeyaay Wind LLC, Mendota Hills, LLC, Rockland Wind Farm LLC, White Wing Ranch North, LLC, Antelope Valley BESS, LLC, LRE Energy Services, LLC, GSG Wind, LLC, Oak Trail Solar, LLC, Big Plain Solar, LLC, Chaparral Springs, LLC, Panorama Wind, LLC, Rabbitbrush Solar, LLC, Lone Tree Wind, LLC, Mountain Breeze Wind, LLC.

Description: Notice of Non-Material Change in Status of Allegheny Ridge Wind Farm, LLC, et al.

Filed Date: 10/31/24.

Accession Number: 20241031-5405.

Comment Date: 5 p.m. ET 11/21/24.

Docket Numbers: ER24-817-003; ER23-2404-004; ER24-1287-001; ER24-1288-001; ER24-1804-002.

Applicants: Clearwater Wind III, LLC, Washington County Solar, LLC, Wadley Solar, LLC, Bronco Plains Wind II, LLC, Babbitt Ranch Energy Center, LLC.

Description: Notice of Change in Status of Babbitt Ranch Energy Center, LLC et al.

Filed Date: 10/31/24.

Accession Number: 20241031-5406.

Comment Date: 5 p.m. ET 11/21/24.

Docket Numbers: ER24-1804-001; ER10-1852-097; ER10-1951-071; ER11-4462-095; ER17-838-069.

Applicants: NextEra Energy Marketing, LLC, NEPM II, LLC, NextEra Energy Services Massachusetts, LLC, Florida Power & Light Company, Clearwater Wind III, LLC.

Description: Notice of Change in Status of Clearwater Wind III, LLC et al.

Filed Date: 10/31/24.

Accession Number: 20241031-5404.

Comment Date: 5 p.m. ET 11/21/24.

Docket Numbers: ER24-2806-000.

Applicants: Prosperity Wind, LLC.

Description: Response to August 19, 2024, Deficiency Letter of Prosperity Wind, LLC.

Filed Date: 11/4/24.

Accession Number: 20241104-5214.

Comment Date: 5 p.m. ET 11/14/24.

Docket Numbers: ER24-3065-002.

Applicants: Prairie Center Energy LLC.

Description: Tariff Amendment: Supplement to Petition for Market-Based Rate Authorization to be effective 10/28/2024.

Filed Date: 11/5/24.

Accession Number: 20241105-5182.

Comment Date: 5 p.m. ET 11/26/24.

Docket Numbers: ER25-360-000.

Applicants: PJM Interconnection, L.L.C.

Description: § 205(d) Rate Filing: Amendment to WMPA; Service Agreement No. 5729; AF1-021 to be effective 1/5/2025.

Filed Date: 11/5/24.

Accession Number: 20241105-5024.

Comment Date: 5 p.m. ET 11/26/24.

Docket Numbers: ER25-361-000.

Applicants: PJM Interconnection, L.L.C.

Description: § 205(d) Rate Filing: Amendment to WMPA, Service Agreement No. 5694; AF1-022 to be effective 1/5/2025.

Filed Date: 11/5/24.

Accession Number: 20241105-5036.

Comment Date: 5 p.m. ET 11/26/24.

Docket Numbers: ER25-362-000.

Applicants: PJM Interconnection, L.L.C.

Description: § 205(d) Rate Filing: Amendment to ISA, SA No. 6307 and ICSA, SA No. 6308; Queue No. AD2-093 to be effective 1/5/2025.

Filed Date: 11/5/24.

Accession Number: 20241105-5040.

Comment Date: 5 p.m. ET 11/26/24.

Docket Numbers: ER25-363-000.

Applicants: Alabama Power Company, Georgia Power Company, Mississippi Power Company.

Description: § 205(d) Rate Filing: Alabama Power Company submits tariff filing per 35.13(a)(2)(iii: PowerSouth NITSA Amendment, (Add McVay-Scyrene Temporary DP) to be effective 11/4/2024.

Filed Date: 11/5/24.

Accession Number: 20241105-5041.

Comment Date: 5 p.m. ET 11/26/24.

Docket Numbers: ER25-364-000.

Applicants: PJM Interconnection, L.L.C.

Description: § 205(d) Rate Filing: Amendments to ISA/ICSA, Service Agreement Nos. 6681/6682; AD2-092 to be effective 1/5/2025.

Filed Date: 11/5/24.

Accession Number: 20241105-5050.

Comment Date: 5 p.m. ET 11/26/24.

Docket Numbers: ER25-365-000.

Applicants: NorthWestern Corporation.

Description: Tariff Amendment: Cancellation of SA 944—Beartooth Electric Coop., Inc. to be effective 11/6/2024.

Filed Date: 11/5/24.

Accession Number: 20241105-5070.

Comment Date: 5 p.m. ET 11/26/24.

Docket Numbers: ER25-366-000.

Applicants: Tucson Electric Power Company.

Description: § 205(d) Rate Filing: Third Amended and Restated Rate Schedule 246 to be effective 11/6/2024.

Filed Date: 11/5/24.

Accession Number: 20241105-5073.

Comment Date: 5 p.m. ET 11/26/24.

Docket Numbers: ER25-367-000.

Applicants: PJM Interconnection, L.L.C.

Description: § 205(d) Rate Filing: Amendment to WMPA, SA No. 5591; Queue No. AE2-054 (amend) to be effective 1/5/2025.

Filed Date: 11/5/24.

Accession Number: 20241105-5076.

Comment Date: 5 p.m. ET 11/26/24.

Docket Numbers: ER25-368-000.

Applicants: Midcontinent Independent System Operator, Inc., Ameren Illinois Company.

Description: § 205(d) Rate Filing: Midcontinent Independent System Operator, Inc. submits tariff filing per 35.13(a)(2)(iii: 2024-11-05_SA 4387 Ameren-USA-SWPA IOA) (DE-PM75-24SW000896) to be effective 1/1/2025.

Filed Date: 11/5/24.

Accession Number: 20241105-5097.

Comment Date: 5 p.m. ET 11/26/24.

Docket Numbers: ER25-369-000.

Applicants: PJM Interconnection, L.L.C.

Description: § 205(d) Rate Filing: Original GIA, SA No. 7392; Project Identifier AF2-234 to be effective 10/6/2024.

Filed Date: 11/5/24.

Accession Number: 20241105-5132.

Comment Date: 5 p.m. ET 11/26/24.

Docket Numbers: ER25-370-000.

Applicants: Midcontinent Independent System Operator, Inc., American Transmission Company LLC.

Description: § 205(d) Rate Filing: Midcontinent Independent System Operator, Inc. submits tariff filing per 35.13(a)(2)(iii: 2024-11-05_SA 4249 ATC-Vista Sands Solar 1st Rev E&P) (J2185 J2107 J2099) to be effective 1/5/2025.

Filed Date: 11/5/24.

Accession Number: 20241105-5145.

Comment Date: 5 p.m. ET 11/26/24.

Docket Numbers: ER25-371-000.

Applicants: Duke Energy Carolinas, LLC.

Description: § 205(d) Rate Filing: DEC-EnergyUnited Revised NITSA SA No. 366 to be effective 12/1/2024.

Filed Date: 11/5/24.

Accession Number: 20241105-5151.

Comment Date: 5 p.m. ET 11/26/24.

Docket Numbers: ER25-372-000.

Applicants: Public Service Company of Colorado.

Description: Tariff Amendment: 2024-11-01—PSC—FRMS—GI-2014-6—LGIA Amnd 3—458—NOC to be effective 11/6/2024.

Filed Date: 11/5/24.

Accession Number: 20241105-5171.

Comment Date: 5 p.m. ET 11/26/24.

Docket Numbers: ER25-373-000.

Applicants: Public Service Company of Colorado.

Description: Tariff Amendment: 2024-11-01—PSC-GI-2014-6-FRMS-Surplus LGIA-Amnd 2-584-0.2.0 NOC to be effective 11/6/2024.

Filed Date: 11/5/24.

Accession Number: 20241105-5173.

Comment Date: 5 p.m. ET 11/26/24.

Docket Numbers: ER25-374-000.

Applicants: Westlands Transmission Project Owner, LLC.

Description: Baseline eTariff Filing: Notice of Succession &amp; Amended TSAs, etc. to be effective 12/31/9998.

Filed Date: 11/5/24.

Accession Number: 20241105-5188.

Comment Date: 5 p.m. ET 11/26/24.

Take notice that the Commission received the following electric reliability filings:

Docket Numbers: RD25-1-000.

Applicants: North American Electric Reliability Corporation.

Description: Petition of the North American Electric Reliability Corporation for Approval of a New Term “Inverter-Based Resource” used in NERC Reliability Standards.

Filed Date: 11/4/24.

Accession Number: 20241104-5219.

Comment Date: 5 p.m. ET 12/4/24.

Docket Numbers: RD25-2-000.

Applicants: North American Electric Reliability Corporation.

Description: Petition of the North American Electric Reliability Corporation for Approval of Proposed Disturbance Monitoring Reliability Standards PRC-028-1 and PRC-002-5.

Filed Date: 11/4/24.

Accession Number: 20241104-5220.

Comment Date: 5 p.m. ET 12/4/24.

Docket Numbers: RD25-3-000.

Applicants: North American Electric Reliability Corporation.

Description: Petition of the North American Electric Reliability Corporation for Approval of Proposed Reliability Standard PRC-030-1.

Filed Date: 11/4/24.

Accession Number: 20241104-5221.

Comment Date: 5 p.m. ET 12/4/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 5, 2024.
Carlos D. Clay,
Acting Deputy Secretary.

[FR Doc. 2024-26149 Filed 11-8-24; 8:45 am]

BILLING CODE 6717-01-P